DEPARTMENT OF TRANSPORTATION

Federal Aviation Administration

Notice of Intent To Rule on Request To Release Airport Property at Eufaula Municipal Airport, Eufaula, Arkansas

AGENCY: Federal Aviation Administration (FAA), DOT.

ACTION: Notice of Request to Release Airport Property.

SUMMARY: The FAA proposes to rule and invites public comment on the release of land at Eufaula Municipal Airport under the provisions of Section 125 of the Wendell H. Ford Aviation Investment Reform Act for the 21st Century (AIR 21).

DATES: Comments must be received on or before January 5, 2015.

ADDRESSES: Comments on this application may be mailed or delivered to the FAA at the following address: Mr. Glenn A Boles, Manager, Federal Aviation Administration, Southwest Region, Airports Division, AR/OK Airports Development Office, ASW-630, Fort Worth, Texas 76137.

In addition, one copy of any comments submitted to the FAA must be mailed or delivered to The Honorable Selina Jayne-Dornan, Mayor of Eufaula at the following address: City of Eufaula, Oklahoma, 64 Memorial Drive, Eufaula, OK 74432.

FOR FURTHER INFORMATION CONTACT: Mrs Kathy Franklin, Program Manager, Federal Aviation Administration, AR/OK Airports Development Office, ASW-630, 2601 Meacham Blvd., Fort Worth, Texas 76137.

The request to release property may be reviewed in person at this same location.

SUPPLEMENTARY INFORMATION: The FAA invites public comment on the request to release property at the Eufaula Municipal Airport under the provisions of the AIR 21.

On November 18, 2014, the FAA determined that the request to release property at Eufaula Municipal Airport submitted by the City of Eufaula met the procedural requirements of the Federal aviation Regulations, Part 155. The FAA may approve the request, in whole or in part, no later than January, 2015.

The following is a brief overview of the request: The City of Eufaula requests the release of 14.68 acres of airport property valued at $29,360.00. The release of property will allow for the sale of the property to the Oklahoma Department of Transportation for the development of an industrial facility for maintenance activities. The City of Eufaula will use the $29,360.00 resulting from the sale to fund construction of a pilots lounge and restrooms which are not presently available at the airport.

Any person may inspect the request in person at the FAA office listed above under FOR FURTHER INFORMATION CONTACT.

In addition, any person may, upon request, inspect the application, notice and other documents germane to the application in person at the Eufaula Municipal Airport.

Issued in Fort Worth, Texas, on November 18, 2014.
Byron K. Huffman,
Acting Manager, Airports Division.

[FR Doc. 2014-28611 Filed 12-4-14; 8:45 am]

BILLING CODE P